DEPARTMENT OF COMMERCE

International Trade Administration

A-201-802

Gray Portland Cement and Clinker from Mexico; Notice of Amended Final Results of Antidumping Duty Administrative Review

AGENCY: Import Administration, International Trade Administration, Department of Commerce.

ACTION: Notice of amended final results of antidumping duty administrative review.

SUMMARY: On March 14, 2001, the Department of Commerce published the final results of administrative review of the antidumping duty order on gray portland cement and clinker from Mexico. The review covers one manufacturer/exporter, CEMEX, S.A. de C.V.(CEMEX), and its affiliate, Cementos de Chihuahua, S.A. de C.V. (CDC). The period of review is August 1, 1998, through July 31, 1999. Based on a correction of a ministerial error, we have changed the antidumping duty margin from 39.34 to 38.65 percent.

EFFECTIVE DATE: May 14, 2001.

FOR FURTHER INFORMATION CONTACT: Dave Dirstine, AD/CVD Enforcement, Import Administration, International Trade Administration, U.S. Department of Commerce, 14th Street and Constitution Avenue, NW., Washington, DC 20230; telephone: (202) 482-4033.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 CFR Part 351 (2000).

Background

On March 14, 2001, the Department published the final results of administrative review of the antidumping duty order on gray portland cement and clinker from Mexico (66 FR 14889) (Final Results). The review covered one manufacturer/exporter and the period August 1, 1998, through July 31, 1999.

After publication of our final results, we received a timely allegation from the respondent, CEMEX, S.A. de C.V. (CEMEX), that we had made two ministerial errors in calculating the final results. CEMEX alleged that: 1) the Department used an incorrect conversion factor at one of four places where the computer program converted short tons to metric tons; and 2) the Department did not include the general and administrative (G&A) and interest fields for the calculation of constructed value. We also received a timely submission from the petitioner, The Southern Tier Cement Committee, in which it agreed with the first alleged ministerial error, but opposed the second alleged ministerial error. We agree with the petitioner and have corrected the first error which was the result of using an incorrect conversion factor. As to the second alleged ministerial error, we disagree with the respondent that we did not correctly calculate constructed value. The respondent proposes to introduce data which is not on the record in this review and add it to the programming language that we used to calculate the weighted-average margins for the final results. We conclude that the computer-programming language we used to calculate the weighted-average antidumping duty margin for the final results does not contain a ministerial error and correctly calculates constructed value. See the Amended Final Analysis Memorandum from the analyst to the file, dated April 27, 2001, for a description of the change we made to correct the conversion-factor error.

Amended Final Results of Review

As a result of the correction of the ministerial error and amended margin calculations, the following weighted-average margin exists for the collapsed parties, CEMEX and CDC, for the period August 1, 1998, through July 31, 1999:

Company | Margin (percent)
CEMEX/CDC | 38.65

The Department shall determine, and the Customs Service shall assess, antidumping duties on all appropriate entries. We will also direct the Customs Service to collect cash deposits of estimated antidumping duties on all appropriate entries in accordance with the procedures discussed in the final results of review (66 FR 14889) and as amended by this determination. The amended deposit requirements are effective for all shipments of the subject merchandise entered, or withdrawn from warehouse, for consumption on or after the date of publication of this notice and shall remain in effect until publication of the final results of the next administrative review.

We are issuing and publishing this determination and notice in accordance with sections 751(h) and 777(i)(1) of the Act. Effective January 20, 2001, Bernard T. Carreau is fulfilling the duties of the Assistant Secretary for Import Administration.

Dated: May 4, 2001.
Bernard T. Carreau,
Deputy Assistant Secretary, Import Administration.

[FR Doc. 01-12065 Filed 5-11-01; 8:45 am]

BILLING CODE 3510-DS-P